DEPARTMENT OF AGRICULTURE

Food and Nutrition Service

Agency Information Collection Activities: Proposed Collection; Comment Request—Scanner Capability Assessment of SNAP-Authorized Small Retailers (SCANR) Study

AGENCY: Food and Nutrition Service (FNS), U.S. Department of Agriculture.

ACTION: Notice.

SUMMARY: In accordance with the Paperwork Reduction Act of 1995, this notice invites the general public and other public agencies to comment on the proposed collection of information for the Scanner Capability Assessment of SNAP-Authorized Small Retailers (SCANR) Study. This is a NEW information collection.

The SCANR Study will provide FNS with an understanding of the extent to which small retailers participating in the Supplemental Nutrition Assistance Program (SNAP) are able to meet Section 4002 of the Agricultural Act of 2014 (2014 Farm Bill) requirement that all authorized SNAP retailers use scanning technologies at the point of sale (POS) to redeem SNAP benefits. Understanding the number of small retailers that lack scanning systems, the costs of adopting and maintaining scanning systems, and the barriers small retailers face in adopting the technology are key to informing rulemaking for the 2014 Farm Bill requirement.

DATES: Written comments must be submitted on or before April 25, 2017.

ADDRESSES: Comments are invited on (a) whether the proposed data collection of information is necessary for the proper performance of the functions of the agency, including whether the information has practical utility; (b) the accuracy of the agency's estimate of the burden of the proposed collection of information, including the validity of the methodology and assumptions that were used; (c) ways to enhance the quality, utility, and clarity of the information to be collected; and (d) ways to minimize the burden of the collection of information on those who are to respond, including the use of appropriate automated, electronic, mechanical, or other technological collection techniques or other forms of information technology.

Comments may be sent to: Jenny Laster Genser, Office of Policy Support, U.S. Department of Agriculture, Food and Nutrition Service, 3101 Park Center Drive, Room 1014, Alexandria, VA 22302. Comments may also be submitted via fax to the attention of Jenny Laster Genser at 703-305-2559 or via email to jenny.genser@fns.usda.gov. Comments will also be accepted through the Federal eRulemaking Portal. Go to http://www.regulations.gov and follow the online instructions for submitting comments electronically.

All written comments will be open for public inspection at the office of the Food and Nutrition Service during regular business hours (8:30 a.m. to 5:00 p.m., Monday through Friday) at 3101 Park Center Drive, Room 1014, Alexandria, VA 22302.

All responses to this notice will be summarized and included in the request for Office of Management and Budget approval. All comments will also be a matter of public record.

FOR FURTHER INFORMATION CONTACT: Requests for additional information should be directed to Jenny Laster Genser at 703-305-2559.

SUPPLEMENTARY INFORMATION:

Title: Scanner Capability Assessment of SNAP-Authorized Small Retailers (SCANR) Study.

OMB Number: 0584—NEW.

Expiration Date of Approval: Not yet determined.

Type of Request: New collection.

Abstract: The Scanner Capability Assessment of SNAP-Authorized Small Retailers Study will provide FNS with information to inform rulemaking for the 2014 Farm Bill requirement that all authorized SNAP retailers use scanning technologies at the POS to redeem SNAP benefits. This study will result in a comprehensive description of the scanner capability of small SNAP-authorized retailers that will provide FNS with information to inform rulemaking for the 2014 Farm Bill requirement. Cost estimates from the industry interviews and follow-up interviews with retailers and data from secondary sources will be used to estimate store-level costs for adopting scanning systems with different levels of functionality. The cost estimates will account for all costs associated with the purchase, installation, and maintenance of scanning systems. Using the store-level costs and data from the SCANR Survey on the number of small SNAP-authorized retailers without scanning systems, the study will also include the total cost estimate for all small SNAP-authorized retailers to comply with the 2014 Farm Bill requirements. Finally, the study will include a descriptive assessment of the technological and economic barriers small SNAP retailers face in adopting and using scanning systems.

Specifically, this study will employ a mixed-methods approach in which both quantitative and qualitative data will be collected, analyzed, and synthesized to assess the economic and technological barriers of adopting scanning technologies by small SNAP-authorized retailers and possible inducements. The study design will include industry interviews, a national survey of small SNAP-authorized retailers, and follow-up interviews with a subset of survey respondents to provide qualitative information on the barriers and inducements to adopting scanning systems.

The study design comprises three data collection components to address four study objectives:

• Objective 1: Determine and describe the requirements for installing and operating electronic scanning systems at small SNAP-authorized retailers.

• Objective 2: Provide a store-level and industry-wide cost analysis of installing and maintaining electronic scanning systems at small SNAP-authorized retailers in order to be in full compliance with the 2014 Farm Bill.

• Objective 3: Provide reliable national estimates of the extent to which scanning systems are in place at small SNAP-authorized retailers.

• Objective 4: Determine barriers and inducements to using scanning technologies by small SNAP-authorized retailers.

The data collection components are as follows:

Structured interviews with nine vendors of POS scanning systems to provide information on the requirements and costs for two options of functionality for scanning systems. The structured interviews will be used to address Objectives 1 and 2.

FNS is interested in the requirements and costs for two options of functionality for scanning systems: (1) Scanning systems that can identify which items are eligible to be purchased with SNAP and are integrated with the store inventory to scan the item's price and (2) scanning systems that can identify which items are eligible to be purchased with SNAP and are integrated with the store inventory to scan the item's price and are integrated with the EBT terminal. The first option will allow a retailer to meet the minimum requirements as outlined in the 2014 Farm Bill. The cost data will be combined with the survey data and data from secondary sources (e.g., labor rates) to conduct a cost analysis to estimate store-level and industry-level costs for complying with the 2014 Farm Bill requirements.

Nationally representative survey of small SNAP-authorized retailers to provide information on the number of retailers that lack scanning systems and the number that may not comply with this provision and choose to leave SNAP instead. Data will be collected through a nationally representative survey of small SNAP-authorized retailers to provide information to address Objectives 2 and 3.

The target population for the survey is small SNAP-authorized retailers defined as small grocery stores, medium grocery stores, convenience stores, and specialty stores excluding chains that have 10 or more outlets under the same owner. The sample design for the survey will be sufficiently powered to provide national and subgroup estimates by store type and urbanicity. The survey approach will use multiple modes to facilitate response (hard copy or web-based) and telephone reminders to nonrespondents to maximize the response rate.

Follow-up interviews with a subset of survey respondents to provide qualitative information on the barriers and inducements to adopting scanning systems. Data will be collected through follow-up interviews with a subset of the retailers that responded to the structured survey to address Objectives 2 and 4.

Approximately half of the retailers selected for the interviews will be stores that reported on the survey that they currently are using scanning systems (via in-person interviews) and half will be stores that do not use scanning systems (via phone interviews). The interviews will provide the opportunity to learn about costs, benefits, and challenges associated with implementing and operating scanning systems from a group of retailers that currently use them and about costs and other concerns of retailers that do not use scanning systems. Interview questions will also provide insight regarding the level of knowledge about scanning technology among small retailers and the information gaps, particularly among nonusers.

Affected Public: Business for profit.

There are a total of 1,389. The respondent groups that were identified include 12 POS vendors and 1,377 SNAP-authorized small retailers.

Industry Interviews

• POS vendors that supply retailers with scanning systems. We estimate that nine vendors will participate in the interviews.

SCANR Survey

• SNAP-authorized small retailers: Store owner, store manager, or regional manager. Out of 1,377 respondents, we estimate that 936 of the small retailers sampled will go on to participate in the survey.

Follow-Up Interviews

• SNAP-authorized small retailers: Store owner, store manager, or regional manager. Out of 936 small retailers who participated in the SCANR survey, we estimate that 50 of them will take part in a follow-up interview.

Estimated Total Number of Respondents: 1,389.

For the industry interviews, it is estimated that 12 of the industry interview respondents will be contacted and, of these, 9 will complete the interview, 3 will be non-respondents.

For the SCANR Survey, a multimode, two-phase approach will be used. For phase I (survey), respondents can choose to participate by hard copy (mail survey) or web, and for phase II (interview), all non-respondents will be re-contacted by phone and asked to complete the survey (by phone or reminded to complete the survey by mail or web). Out of 123,000 small retailers, a sample of 1,377 will be selected. It is estimated that, of these, 207 will not be eligible for the survey (e.g., no longer in operation), 585 will complete phase I (50% response rate after adjusting for eligibility), and 351 will complete phase II (60% response rate), yielding 936 completed surveys. Adjusting for eligibility, we are targeting an 80% response rate (936/(1,377−207)).

For the follow-up interviews, a sample of 71 respondents that completed the SCANR Survey will be selected for either telephone or on-site interviews. It is estimated that 50 of the selected respondents will take part in the interview (70% response rate).

Estimated Number of Responses per Respondent: 1.545.

For the industry interviews with vendors, there is one response per respondent. For retailers, there is one response for 886 of the respondents (SCANR Survey only) and two responses for 50 of the respondents who participate in follow-up interviews.

Estimated Total Annual Responses: 1,925.

For the industry interviews, this total includes 9 completed interviews with vendors and 3 attempted interviews. For the SCANR Survey, this total includes 936 responses from small retailers and 441 attempted, but non-completed or non-responses. For the follow-up interviews, this total includes 50 completed interviews and 21 attempted interviews.

Estimated Time per Response: 0.21.

For the telephone interviews with vendors: Vendors will take up to 1 hour to participate in the telephone interviews. Vendors who choose not to participate will spend 5 minutes (0.08 hours) reading the recruitment materials.

For the SCANR Survey: Small retailers will take 15 minutes (0.25 hours) to respond to the survey (via mail, web, or phone). Small retailers who choose not to participate will spend 5 minutes (0.08 hours) reading the recruitment materials.

For the follow-up interviews: Small retailers will take 30 minutes (0.5 hours) to respond to the in-depth telephone or on-site interviews. Small retailers selected for a follow-up interview who choose not to participate will spend 5 minutes (0.08 hours) reading the recruitment materials.

Estimated Total Annual Burden on Respondents: FNS estimates the total burden is 345.57 hours. See Table 1 below:

BILLING CODE 3410-30-P

Dated: February 8, 2017.
Jessica Shahin,
Acting Administrator, Food and Nutrition Service.

[FR Doc. 2017-03570 Filed 2-23-17; 8:45 am]

BILLING CODE 3410-30-C